DEPARTMENT OF AGRICULTURE

Animal and Plant Health Inspection Service

9 CFR Parts 2 and 3

[Docket No. 99-014-3]

RIN 0579-AC41

Animal Welfare; Climatic and Environmental Conditions for Transportation of Warmblooded Animals Other Than Marine Mammals

ACTION: Proposed rule; reopening of comment period.

SUMMARY: We are reopening the comment period for our proposed rule that would remove the current ambient temperature requirements in the Animal Welfare Act regulations for various stages in the transportation of live animals other than marine mammals. The proposal would replace those requirements with a single performance standard for climatic and environmental conditions during their transportation. This action will allow interested persons additional time to prepare and submit comments.

DATES: We will consider all comments that we receive on or before April 17, 2008.

ADDRESSES: You may submit comments by either of the following methods:

• Federal eRulemaking Portal: Go to http://www.regulations.gov/fdmspublic/component/main?main=DocketDetail&d=APHIS-2006-0150 to submit or view comments and to view supporting and related materials available electronically.

• Postal Mail/Commercial Delivery: Please send two copies of your comment to Docket No. 99-014-2, Regulatory Analysis and Development, PPD, APHIS, Station 3A-03.8, 4700 River Road Unit 118, Riverdale, MD 20737-1238. Please state that your comment refers to Docket No. 99-014-2.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Jerry D. DePoyster, Veterinary Medical Officer, Animal Care, APHIS, 4700 River Road Unit 84, Riverdale, MD 20737-1234; (301) 734-7586.

SUPPLEMENTARY INFORMATION: On January 3, 2008, we published in the Federal Register (73 FR 413-420, Docket No. 99-014-2) a proposal to remove the current ambient temperature requirements in the Animal Welfare Act regulations for various stages in the transportation of live animals other than marine mammals. The proposal would replace those requirements with a single performance standard under which the animals would be transported under climatic and environmental conditions that are appropriate for their welfare.

Comments on the proposed rule were required to be received on or before March 3, 2008. We are reopening the comment period on Docket No. 99-014-2 for an additional 30 days. This action will allow interested persons additional time to prepare and submit comments. We will also consider all comments received between March 4, 2008, and the date of this notice.

Authority: 7 U.S.C. 2131-2159; 7 CFR 2.22, 2.80, and 371.7.

Done in Washington, DC, this 12th day of March 2008.
Kevin Shea,
Acting Administrator, Animal and Plant Health Inspection Service.

[FR Doc. E8-5394 Filed 3-17-08; 8:45 am]

BILLING CODE 3410-34-P